DEPARTMENT OF ENERGY

Federal Energy Regulatory Commission

[Docket No. CP00-433-000]

Northern Natural Gas Company; Notice of Application

September 14, 2000.

Take notice that on August 9, 2000, Northern Natural Gas Company (Northern), 1111 South 103rd Street, Omaha, Nebraska 68124-1000, filed in Docket No. CP00-433-000 an application pursuant to Section 7(b) of the Natural Gas Act (NGA), as amended, and the Rules and Regulations of the Federal Energy Regulatory Commission (Commission) for permission and approval to abandon natural gas service of MidAM, formerly Iowa Public Service Company, which service was rendered under Northern's Rate Schedule T-44 of its FERC Gas Tariff, Original Volume No. 2, all as more fully set forth in the application which is on file with the Commission, and open to public inspection. This filing may be viewed on the web at htpp://www.ferc.fed/us/online/rims/htm (call 202-208-2222 for assistance).

Northern proposes to abandon service to MidAm, as agent on behalf of Terra Chemicals International, Inc., under Rate Schedule T-44. Northern indicates that the underlying contract for the service has expired pursuant to the terms of the agreement. Consequently, Northern proposes to abandon the service and remove Rate Schedule T-44 from its FERC Gas Tarif, Original Volume No. 2. Northern asserts that no facilities will be abandoned as a result of the proposed abandonment of service.

Any person desiring to be heard or make any protest with reference to said application should on or before October 5, 2000, file with the Commission 888 First Street, NE., Washington, DC 20426, a motion to intervene or a protest in accordance with the requirements of the Commission's Rules of Practice and Procedures (19 CFR sections 385.211 and 385.214) and the Regulations under the Natural Gas Act (18 CFR section 157.10). All protests filed with the Commission will be considered by it in determining the appropriate action to be taken but will not serve to make the Protestants parties to the proceedings. Any person wishing to become a party to a proceeding or to participate as a party in any hearing therein must file a petition in accordance with the Commission's Rules.

Take notice that, pursuant to the authority contained in and subject to the jurisdiction conferred upon the Commission by Sections 7 and 15 of the Natural Gas Act and the Commission's Rules of Practice and Procedure, a hearing will be held without further notice before the Commission on this application if no protest or motion to intervene is filed within the time required herein. At that time, the Commission, on its own review of the matter, will determine whether granting the abandonment is required by the public convenience and necessity. If a petition for leave to intervene is timely filed, or if the Commission on its own motion believes that a formal hearing is required, further notice of such hearing will be duly given.

Under the procedure herein provided for, unless otherwise advise, it will be unnecessary for Northern to appear or be represented at the hearing.

Linwood A. Watson, Jr.,
Acting Secretary.

[FR Doc. 00-24092 Filed 9-19-00; 8:45 am]

BILLING CODE 6717-01-M